DEPARTMENT OF HEALTH AND HUMAN SERVICES

Centers for Disease Control and Prevention

[30Day-11-0770]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

National HIV Behavioral Surveillance System (NHBS)—0920-0770 exp. 03/31/2011)—Revision-National Center for HIV, Hepatitis, STD, and TB Prevention (NCHHSTP), Centers for Disease Control and Prevention (CDC).

Background and Brief Description

The purpose of this data collection is to monitor behaviors related to human immunodeficiency virus (HIV) infection among persons at high risk for infection in the United States. The primary objectives of NHBS are to obtain data from samples of persons at risk to: (a) Describe the prevalence and trends in risk behaviors; (b) describe the prevalence of and trends in HIV testing and HIV infection; (c) describe the prevalence of and trends in use of HIV prevention services; (d) identify met and unmet needs for HIV prevention services in order to inform health departments, community-based organizations, community planning groups and other stakeholders. This project addresses the goals of CDC's HIV prevention strategic plan, specifically the goal of strengthening the national capacity to monitor the HIV epidemic to better direct and evaluate prevention efforts.

For the proposed data collection, CDC has revised the interview data collection instruments. A few questions were added (related to health care access and utilization, use of pre-exposure prophylaxis, homophobia, HIV stigma, and discrimination), some were removed, and others were revised from the previously approved instrument to make them easier for respondents to understand and respond appropriately. The project activities and methods will remain the same as those used in the previously approved collection.

Data are collected through anonymous, in-person interviews conducted with persons systematically selected from 25 Metropolitan Statistical Areas (MSAs) throughout the United States; these 25 MSAs were chosen based on having high AIDS prevalence. Persons at risk for HIV infection to be interviewed for NHBS include men who have sex with men (MSM), injecting drug users (IDUs), and heterosexuals at increased risk of HIV (HET). A brief screening interview will be used to determine eligibility for participation in the behavioral assessment. The data from the behavioral assessment will provide estimates of behavior related to the risk of HIV and other sexually transmitted diseases, prior testing for HIV, and use of HIV prevention services. All persons interviewed will also be offered an HIV test and will participate in a pre-test counseling session. No other federal agency systematically collects this type of information from persons at risk for HIV infection. These data have substantial impact on prevention program development and monitoring at the local, state, and national levels.

CDC estimates that NHBS will involve, per year in each of the 25 MSAs, eligibility screening for 50 to 200 persons and eligibility screening plus the survey with 500 eligible respondents, resulting in a total of 37,500 eligible survey respondents and 7,500 ineligible screened persons during a 3-year period. Data collection will rotate such that interviews will be conducted among one group per year: MSM in year 1, IDU in year 2, and HET in year 3. The type of data collected for each group will vary slightly due to different sampling methods and risk characteristics of the group.

This request is for a revision and an approval for an additional 3 years of data collection. Participation of respondents is voluntary and there is no cost to the respondents other than their time. The total estimated annualized burden hours are 9,931.

Estimated Annualized Burden Hours
Type of respondent | Form name | Number of respondents | Responses per respondent | Average burden per response; (in hours)
Year 1 (MSM):
Persons Screened | Screener | 17,500 | 1 | 5/60
Eligible Participants | Survey | 12,500 | 1 | 30/60
Year 2 (IDU):
Persons Referred by Peer Recruiters | Screener | 13,750 | 1 | 5/60
Eligible Participants | Survey | 12,500 | 1 | 54/60
Peer Recruiters | Recruiter Debriefing | 6,250 | 1 | 2/60
Year 3 (HET):
Persons Referred by Peer Recruiters | Screener | 13,750 | 1 | 5/60
Eligible Participants | Survey | 12,500 | 1 | 39/60
Peer Recruiters | Recruiter Debriefing | 6,250 | 1 | 2/60

Petunia Gissendaner,
Acting Reports Clearance Officer, Centers for Disease Control and Prevention.

[FR Doc. 2011-5092 Filed 3-4-11; 8:45 am]

BILLING CODE 4163-18-P